DEPARTMENT OF HOMELAND SECURITY

Federal Emergency Management Agency

[Docket ID FEMA-2014-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of December 9, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: October 9, 2014.
Roy E. Wright,
Deputy Associate Administrator for Mitigation, Department of Homeland Security, Federal Emergency Management Agency.

Community | Community map repository address
Bartholomew County, Indiana, and Incorporated Areas
Docket No.: FEMA-B-1342
City of Columbus | Bartholomew County Planning Department, 123 Washington Street, Suite 8, Columbus, IN 47201.
Town of Edinburgh | Town Hall, 107 South Holland Street, Edinburgh, IN 46124.
Town of Hartsville | Town Hall, 290 West Jefferson Street, Hartsville, IN 47244.
Town of Hope | Town Hall, 404 Jackson Street, Hope, IN 47246.
Unincorporated Areas of Bartholomew County | Bartholomew County Planning Department, 123 Washington Street, Suite 8, Columbus, IN 47201.
Grant County, Indiana, and Incorporated Areas
Docket No.: FEMA-B-1342
City of Gas City | City Hall, 211 East Main Street, Gas City, IN 46933.
City of Jonesboro | Grant County Area Plan Commission, 401 South Adams Street, Marion, IN 46953.
City of Marion | City Hall, 301 South Branson Street, Marion, IN 46952.
Town of Fairmount | Grant County Area Plan Commission, 401 South Adams Street, Marion, IN 46953.
Town of Matthews | Grant County Area Plan Commission, 401 South Adams Street, Marion, IN 46953.
Town of Sweetser | Grant County Area Plan Commission, 401 South Adams Street, Marion, IN 46953.
Town of Upland | Grant County Area Plan Commission, 401 South Adams Street, Marion, IN 46953.
Town of Van Buren | Grant County Area Plan Commission, 401 South Adams Street, Marion, IN 46953.
Unincorporated Areas of Grant County | Grant County Area Planning Commission, 401 South Adams Street, Marion, IN 46953.
Clarion County, Pennsylvania (All Jurisdictions)
Docket No.: FEMA-B-1312
Borough of East Brady | Borough Building, 502 Ferry Street, Suite 15, East Brady, PA 16028.
Borough of Foxburg | Foxburg Municipal Building, 1417 Perryville Road, Parker, PA 16049.
Borough of New Bethlehem | Borough Building, 210 Lafayette Street, New Bethlehem, PA 16242.
Township of Brady | Brady Township Building, 935 Phillipston Road, Rimersburg, PA 16248.
Township of Madison | Madison Township Building, 1183 Madison Shop Road, Rimersburg, PA 16246.
Township of Perry | Perry Township Building, 5687 Doc Walker Road, Parker, PA 16049.
Township of Porter | Porter Township Building, 9485 Curllsville Road, New Bethlehem, PA 16242.
Township of Redbank | Redbank Township Building, 10 Swede Hollow Road, Fairmount City, PA 16224.
Township of Richland | Richland Township Building, 511 Dittman Road, Emlenton, PA 16373.
City of Newport News, Virginia (Independent City)
Docket Nos.: FEMA-B-1284 and B-1344
City of Newport News | Department of Engineering, 2400 Washington Avenue, Newport News, VA 23607.
Mathews County, Virginia (All Jurisdictions)
Docket No.: FEMA-B-1332
Unincorporated Areas of Mathews County | Mathews County Building Official's Office, 17 Court Street, Mathews, VA 23109.

[FR Doc. 2014-25388 Filed 10-24-14; 8:45 am]

BILLING CODE 9110-12-P